DEPARTMENT OF THE TREASURY

Submission for OMB Review; Comment Request

July 26, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 2, 2004 to be assured of consideration.

Internal Revenue Service (IRS)

OMB Number: 1545-0070.

Form Number: IRS Form 2350.

Type of Review: Extension.

Title: Application for Extension of Time to File U.S. Income Tax Return.

Description: Form 2350 is used to request an extension of time to file in order to meet the bona fide residence or physical presence tests required to gain the benefits permitted under section 911. The information furnished is used to determine if the extension should be granted.

Respondents: Individuals or households.

Estimated Number of Respondents/Recordkeepers: 22,594.

Estimated Burden Hours Respondent/Recordkeeper:

Recordkeeping—13 min.

Learning about the law or the form—12 min.

Preparing the form—18 min.

Sending the form to the IRS 13—min.

Frequency of response: Annually.

Estimated Total Reporting/Recordkeeping Burden: 21,465 hours.

OMB Number: 1545-0188.

Form Number: IRS Form 4868.

Type of Review: Extension.

Title: Application for Automatic Extension of Time to File U.S. Individual Income Tax Return.

Description: Form 4868 is used by taxpayers to apply for an automatic 4-month extension of time to file Form 1040A, or Form 1040EZ. This form contains data used by the Service to determine if a taxpayer qualifies for the extension.

Respondents: Individuals and households.

Estimated Number of Respondents/Recordkeepers: 5,572,999.

Estimated Burden Hours Respondent/Recordkeeper:

Recordkeeping—26 min.

Learning about the law or the form—13 min.

Preparing the form—11 min.

Copying, assembling and sending the form to the IRS—10 min.

Frequency of response: Annually.

Estimated Total Reporting/Recordkeeping Burden: 5,740,189 hours.

OMB Number: 1545-0985.

Regulation Project Numbers: PS-128-86, PS-127-86, and PS-73-88 Final (TD 8644).

Type of Review: Extension.

Title: Generation Skipping Transfer Tax.

Description: This regulation provides rules relating to the effective date, return requirements, definitions, and certain special rules covering the generation-skipping transfer tax. The information required by the regulation will require individuals and/or fiduciaries to report information on Forms 706NA, 706, 706GS(D), 706GS(D-1), 706GS(T), 709 and 843 in connection with the generation skipping transfer tax. The information will facilitate the assessment of the tax and taxpayer examinations.

Respondents: Individuals or households, Business of other for-profit.

Estimated Number of Respondents/Recordkeepers: 7,500.

Estimated Burden Hours Respondent/Recordkeeper: 30 minutes.

Frequency of response: On occasion, Other (Form 706 is filed within 9 months after taxpayer dies).

Estimated Total Reporting/Recordkeeping Burden: 3,750 hours.

OMB Number: 1545-1051.

Regulation Project Number: INTL-29-91 Final.

Type of Review: Extension.

Title: Computation and Characterization of Income and Earnings and Profits under the Dollar Approximate Separate Transactions Method of Accounting (DASTM).

Description: For taxable years after the final regulations are effective, taxpayers operating in hyperinflationary currencies must use the U.S. dollar as their functional currency and compute income using the dollar approximate separate transactions method (DASTM). Small taxpayers may elect an alternate method by which to compute income or loss. For prior years in which income was computed using the profit and loss method, taxpayers may elect to recompute their income using DASTM.

Respondents: Business of other for-profit.

Estimated Number of Respondents: 700.

Estimated Burden Hours Respondent: 1 hour, 26 minutes.

Frequency of response: On occasion, Other (one-time election).

Estimated Total Reporting/Recordkeeping Burden: 1,000 hours.

OMB Number: 1545-1173.

Form Number: IRS Form 8815.

Type of Review: Extension.

Title: Exclusion of Interest From Series EE and I U.S. Savings Bonds Issued After 1989.

Description: If any individual redeems series I or series EE U.S. savings bonds issued after 1989 and pays qualified higher education expenses during the year, the interest on the bonds may be excludable from income. Form 8815 is used by the individual to figure the amount of savings that is excludable.

Respondents: Individuals or households.

Estimated Number of Respondents/Recordkeepers: 25,000.

Estimated Burden Hours Respondent/Recordkeeper:

Recordkeeping—51 min.

Learning about the law or the form—10 min.

Preparing the form—37 min.

Copying, assembling, and sending the form to the IRS—32 min.

Frequency of response: Annually.

Estimated Total Reporting/Recordkeeping Burden: 51,110 hours.

Clearance Officer: Glenn P. Kirkland, (202) 622-3428, Internal Revenue Service, Room 6411-03, 1111 Constitution Avenue, NW, Washington, DC 20224.

OMB Reviewer: Joseph F. Lackey, Jr., (202) 395-7316, Office of Management and Budget, Room 10235, New Executive Office Building, Washington, DC 20503.

Lois K. Holland,
Treasury PRA Clearance Officer.

[FR Doc. 04-17630 Filed 8-2-04; 8:45 am]

BILLING CODE 4830-01-P